DEPARTMENT OF LABOR

Office of the Secretary

Senior Executive Service; Appointment of Members to the Performance Review Board

Title 5 U.S.C. 4314(c)(4) provides that Notice of the Appointment of the individual to serve as a member of the Performance Review Board of the Senior Executive Service shall be published in the Federal Register.

The following individuals are hereby appointed to serve on the Department's Performance Review Board:

Permanent Membership

Chair—Julie Su, Deputy Secretary

Vice-Chair—Rachana Desai Martin, Assistant Secretary for Administration and Management

Alternate Vice-Chair—Sydney Rose, Chief Human Capital Officer

Rotating Membership—Appointments Expire on 09/30/24

ASP Alexander Hertel-Fernandez, Deputy Assistant Secretary for Research and Evaluation

BLS Nancy Ruiz De Gamboa, Associate Commissioner for Administration

EBSA Mabel Capolongo, Director of Enforcement

ETA Nicholas Lalpuis, Regional Administrator, Dallas

MSHA Brian Goepfert, Director, Educational Policy and Development

OASAM Carl Campbell, Senior Procurement Executive

ODEP Jennifer Sheehy, Deputy Assistant Secretary

OFCCP Michele Hodge, Deputy Director

OLMS Jeffrey Freund, Director

OSHA Eric Harbin, Regional Administrator, Dallas

OWCP Christy Long, National Administrator of Field Operations, Seattle

SOL John Rainwater, Regional Solicitor, Dallas

VETS Ivan Denton, Director, National Programs

WHD Ruben Rosalez, Regional Administrator, San Francisco

FOR FURTHER INFORMATION CONTACT: Mr. Demeatric Gamble, Chief, Division of Executive Resources, Room N2453, U.S. Department of Labor, Frances Perkins Building, 200 Constitution Ave. NW, Washington, DC 20210, telephone: (202) 693-7694.

Rachana Desai Martin,
Assistant Secretary for Administration and Management.

[FR Doc. 2021-25899 Filed 11-26-21; 8:45 am]

BILLING CODE 4510-04-P